DEPARTMENT OF HEALTH AND HUMAN SERVICES

Centers for Medicare & Medicaid Services

[Document Identifier: CMS-R-204, CMS-10208, and CMS-301]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Data Collection for the Second Generation Social Health Maintenance Organization Demonstration; Use: The purpose of the Second Generation Social Health Maintenance Organization Demonstration (S/HMO-II) is to refine the targeting and financing methodologies, and benefit design of the Social Health Maintenance Organization Demonstration model. Four primary components of the S/HMO-II demonstration are: (1) A geriatric care approach that will be applied across the entire spectrum of S/HMO-II enrollees; (2) expanded community care coordination through links between chronic care case-management and acute care providers; (3) provision of long-term-benefits; and (4) an adjusted average per capita costs based risk-adjusted payment methodology. Form Number: CMS-R-204 (OMB#: 0938-0709); Frequency: Reporting—yearly; Affected Public: Individuals or households; Number of Respondents: 17,624; Total Annual Responses: 17,624; Total Annual Hours: 3,425.

2. Type of Information Collection Request: New collection; Title of Information Collection: Assessing Degrees of Health Care Involvement Survey; Use: It is not sufficient to merely mail information about the Medicare program to each beneficiary. CMS needs to know that the beneficiaries received the information, understood the information and found the information useful in making choices about their Medicare participation. To this end, CMS must have measure(s) over time of what beneficiaries know and understand about the Medicare program now to be able to quantify and attribute any changes to their understanding or behavior to information/education initiatives. Measuring beneficiary information needs and knowledge over time will help CMS to evaluate the impact of information/education and other initiatives, as well as to understand how the population is changing separate from such initiatives. Form Number: CMS-10208 (OMB#: 0938—NEW); Frequency: Reporting—weekly; Affected Public: Individuals or households; Number of Respondents: 4,000; Total Annual Responses: 3,500; Total Annual Hours: 1,200.

3. Type of Information Collection Request: Extension of a currently approved collection; Title of Information Collection: Certification of Medicaid Eligibility Control (MEQC) Payment Error Rates and Supporting Regulations at 42 CFR 431.800-431.865; Use: Medicaid Eligibility Quality Control (MEQC) is operated by Title XIX agencies to monitor and improve the administration of its Medicaid program. The traditional MEQC program is based on State reviews of Medicaid beneficiaries identified through a statistically reliable statewide sample of cases selected from the eligibility files. These reviews are conducted to determine whether the sampled cases meet applicable Title XIX eligibility requirements. State agencies are required to submit the Payment Error Rate form to their respective CMS Regional Office. Regional Office staff will review these forms for completeness and will forward these forms to central office for compilation of error rate charts for projected quarterly withholdings and/or fiscal disallowances. Form Number: CMS-301 (OMB#: 0938-0246); Frequency: Recordkeeping and reporting—semi-annually; Affected Public: State, local or tribal governments; Number of Respondents: 51; Total Annual Responses: 102; Total Annual Hours: 22,515.

To obtain copies of the supporting statement and any related forms for the proposed paperwork collections referenced above, access CMS' Web site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received at the address below, no later than 5 p.m. on December 26, 2006. CMS, Office of Strategic Operations and Regulatory Affairs, Division of Regulations Development—C, Attention: Bonnie L Harkless, Room C4-26-05, 7500 Security Boulevard, Baltimore, Maryland 21244-1850.

Dated October 19, 2006.
Michelle Shortt,
Director, Regulations Development Group, Office of Strategic Operations and Regulatory Affairs.

[FR Doc. E6-17910 Filed 10-26-06; 8:45 am]

BILLING CODE 4120-01-P